CONSUMER PRODUCT SAFETY COMMISSION

[Docket No. CPSC-2010-0055]

Agency Information Collection Activities; Proposed Collection; Comment Request; Standard for the Flammability of Mattresses and Mattress Pads and Standard for the Flammability (Open Flame) of Mattress Sets

AGENCY: Consumer Product Safety Commission.

ACTION: Notice.

SUMMARY: As required by the Paperwork Reduction Act of 1995, the Consumer Product Safety Commission (CPSC or Commission) requests comments on a proposed extension of approval of a collection of information from manufacturers and importers of mattresses and mattress pads. The collection of information is set forth in the Standard for the Flammability of Mattresses and Mattress Pads and the Standard for the Flammability (Open Flame) of Mattress Sets. These regulations establish testing and recordkeeping requirements for manufacturers and importers subject to the standards. The Office of Management and Budget (OMB) previously approved the collection of information under control number 3041-0014. OMB's most recent extension of approval will expire on August 31, 2023. CPSC will consider all comments received in response to this notice, before requesting an extension of approval of this collection of information from OMB.

DATES: The Office of the Secretary must receive comments not later than August 21, 2023.

ADDRESSES: You may submit comments, identified by Docket No. CPSC-2010-0055, by any of the following methods:

Electronic Submissions: CPSC encourages you to submit electronic comments to the Federal eRulemaking Portal at: https://www.regulations.gov. Follow the instructions for submitting comments. CPSC typically does not accept comments submitted by electronic mail (email), except as described below.

Mail/Hand Delivery/Courier/Confidential Written Submissions: Submit comments by mail, hand delivery, or courier to: Office of the Secretary, Consumer Product Safety Commission, 4330 East West Highway, Bethesda, MD 20814; telephone: (301) 504-7479. If you wish to submit confidential business information, trade secret information, or other sensitive or protected information that you do not want to be available to the public, you may submit such comments by mail, hand delivery, or courier, or you may email them to: cpsc-os@cpsc.gov.

Instructions: All submissions must include the agency name and docket number. CPSC may post all comments without change, including any personal identifiers, contact information, or other personal information provided, to: https://www.regulations.gov. Do not submit through this website: confidential business information, trade secret information, or other sensitive or protected information that you do not want to be available to the public. If you wish to submit such information, please submit it according to the instructions for mail/hand delivery/courier/confidential written submissions.

Docket: For access to the docket to read background documents or comments received, go to: https://www.regulations.gov, insert the docket number, CPSC-2010-0055, into the “Search” box, and follow the prompts.

FOR FURTHER INFORMATION CONTACT: Cynthia Gillham, Consumer Product Safety Commission, 4330 East West Highway, Bethesda, MD 20814; (301) 504-7791, or by email to: cgillham@cpsc.gov.

SUPPLEMENTARY INFORMATION:

A. Background

CPSC promulgated the Standard for the Flammability of Mattresses and Mattress Pads, 16 CFR part 1632 (part 1632 standard) under section 4 of the Flammable Fabrics Act (FFA), 15 U.S.C. 1193, to reduce unreasonable risks of burn injuries and deaths from fires associated with mattresses and mattress pads. The part 1632 standard prescribes requirements to test whether a mattress or mattress pad will resist ignition from a smoldering cigarette. The part 1632 standard also requires manufacturers to perform prototype tests of each combination of materials and construction methods used to produce mattresses or mattress pads and to obtain acceptable results from such testing. Manufacturers and importers must maintain the records and test results specified under the standard.

The Commission also promulgated the Standard for the Flammability (Open Flame) of Mattress Sets, 16 CFR part 1633 (part 1633 standard), under section 4 of the FFA to reduce deaths and injuries related to mattress fires, particularly those ignited by open-flame sources, such as lighters, candles, and matches. The part 1633 standard requires manufacturers to maintain certain records to document compliance with the standard, including maintaining records concerning prototype testing, pooling, and confirmation testing, and quality assurance procedures and any associated testing. The required records must be maintained for as long as mattress sets based on the prototype are in production and must be retained for 3 years thereafter. OMB previously approved the collection of information for 16 CFR parts 1632 and 1633, under control number 3041-0014, with an expiration date of August 31, 2023. The information collection requirements under the part 1632 standard are separate from the testing and recordkeeping requirements under the part 1633 standard.

B. Burden Hours

16 CFR 1632: Commission staff estimates that there are 403 respondents that produce mattresses. It is estimated that each respondent will spend 26 hours for testing and record keeping annually for a total of 10,478 hours (403 establishments × 26 hours = 10,478). The hourly compensation for the time required for record keeping is $72.91 (for management, professional, and related occupations in goods-producing industries, Bureau of Labor Statistics, September 2022). The annualized cost to respondents would be approximately $763,950.98 (10,478 hours × $72.91 per hour).

16 CFR 1633: The standard requires detailed documentation of prototype identification and testing records, model and prototype specifications, inputs used, name and location of suppliers, and confirmation of test records, if establishments choose to pool a prototype. This documentation is in addition to documentation already conducted by mattress manufacturers to meet 16 CFR part 1632. Staff again estimates that there are 403 respondents. Based on staff estimates, the recordkeeping requirements are expected to require about 4 hours and 44 minutes per establishment, per qualified prototype. Although some larger manufacturers reportedly are producing mattresses based on more than 100 prototypes, most mattress manufacturers probably base their complying production on 15 to 20 prototypes, according to an industry representative contacted by staff. Assuming that establishments qualify their production with an average of 20 different qualified prototypes, recordkeeping time is about 94.6 hours (4.73 hours × 20 prototypes) per establishment, per year. (Note that pooling among establishments or using a prototype qualification for longer than 1 year will reduce the hours required). This translates to an estimated annual recordkeeping time cost to all mattress producers of 38,124 hours (94.6 hours × 403 establishments). The hourly compensation for the time required for record keeping is $72.91 (for management, professional, and related occupations in goods-producing industries, Bureau of Labor Statistics, September 2022). The annual total estimated costs for recordkeeping are approximately $2,779,606 (38,124 hours × $72.91 per hour).

The total estimated annual cost to the 403 establishments for the burden hours associated with both 16 CFR part 1632 and 16 CFR part 1633 is approximately $3.5 million (10,478 + 38,124 = 48,602 total hours; 48,602 × $72.91 = $3,543,571,182).

C. Request for Comments

The Commission solicits written comments from all interested persons about the proposed collection of information. The Commission specifically solicits information relevant to the following topics:

• Whether the collection of information described above is necessary for the proper performance of the Commission's functions, including whether the information would have practical utility;

• Whether the estimated burden of the proposed collection of information is accurate;

• Whether the quality, utility, and clarity of the information to be collected could be enhanced; and

• Whether the burden imposed by the collection of information could be minimized by use of automated, electronic, or other technological collection techniques, or other forms of information technology.

Alberta E. Mills,
Secretary, Consumer Product Safety Commission.

[FR Doc. 2023-13052 Filed 6-16-23; 8:45 am]

BILLING CODE 6355-01-P